DEPARTMENT OF JUSTICE

Notice of Lodging of Consent Decree Pursuant to The Clean Water Act

In accordance with 28 CFR 50.7, 38 FR 19029, notice is hereby given that on May 29, 2002, a Consent Decree was lodged with the United States District Court for the District of Massachusetts in United States v. Boston Sand and Gravel Co., et al., Civil Action No. 02-10999-JLT. A complaint in the action was also filed simultaneously with the lodging of the Consent Decree. In the complaint the United States, on behalf of the U.S. Environmental Protection Agency (EPA), alleges that the defendants Boston Sand & Gravel Co. (“BS&G”) and two of its wholly-owned subsidiaries, Ossipee Aggregates Corporation (“Ossipee”), and Southeastern Concrete, Inc. (“Southeastern”), violated the Clean Water Act, 33 U.S.C. 1251, et seq., (“CWA”) at several facilities owned and operated by the defendants in Massachusetts. The violations alleged in the complaint include discharges of process waste water without a permit; violations of EPA storm water permitting requirements; and failure to comply with requirements relating to Spill Prevention Control and Countermeasure Plans. The consent decree requires BS&G to pay a civil penalty of $897,983; achieve compliance with applicable provisions of the CWA; expend at least $445,000 on a supplemental environmental project; and undertake compliance audits and an environmental management systems audit with respect to the defendants' Massachusetts facilities.

The Department of Justice will receive comments relating to the proposed Consent Decree for a period of thirty (30) days from the date of this publication. Comments should be addressed to the Assistant Attorney General, Environment and Natural Resources division, Department of Justice, P.O. Box 7611, Washington, DC 20044, and should refer to United States v. Boston Sand and Gravel Co., D.J. Ref. 90-5-1-1-07134.

The proposed consent decree may be examined at the office of the United States Attorney, Suite 9200, 1 Courthouse Way, Boston, Massachusetts 02110, and at the Region I office of the Environmental Protection Agency, One Congress Street, Suite 1100, Boston, Massachusetts 02114. A copy of the proposed consent decree may also be obtained by mail from the Department of Justice Consent Decree Library, P.O. Box 7611, Washington, DC 20044. In requesting a copy, please enclose a check there is a 25 cent per page reproduction cost) in the amount of $16.50 payable to the “U.S. Treasury.”

Ronald G. Gluck,
Assistant Chief, Environmental Enforcement Section, Environment & Natural Resources Division.

[FR Doc. 02-14845 Filed 6-12-02; 8:45 am]

BILLING CODE 4401-15-M